DEPARTMENT OF THE INTERIOR

Bureau of Land Management

[LLOR936000-L14300000-ET0000; HAG-11-0112; OROR-10887]

Public Land Order No. 7767; Extension of Public Land Order No. 6857; Oregon

AGENCY: Bureau of Land Management, Interior.

ACTION: Public Land Order.

SUMMARY: This order extends the duration of the withdrawal created by Public Land Order No. 6857 for an additional 20-year period. The extension is necessary to continue protection of the scenic and recreational values, along with the investment of Federal funds at the Squaw Lakes Recreation Area, that would otherwise expire on May 5, 2011.

DATES: Effective Date: May 6, 2011.

FOR FURTHER INFORMATION CONTACT: Charles R. Roy, Bureau of Land Management, Oregon/Washington State Office, 503-808-6189, or Dianne Torpin, U.S. Forest Service, Pacific Northwest Region, 503-808-2422.

SUPPLEMENTARY INFORMATION: The purpose for which the withdrawal was first made requires this extension in order to continue protection of the scenic and recreational values, along with the investment of Federal funds at the Squaw Lakes Recreation Area. The withdrawal extended by this order will expire on May 5, 2031, unless as a result of a review conducted prior to the expiration date pursuant to Section 204(f) of the Federal Land Policy and Management Act of 1976, 43 U.S.C. 1714(f), the Secretary determines that the withdrawal shall be further extended.

Order

By virtue of the authority vested in the Secretary of the Interior by Section 204 of the Federal Land Policy and Management Act of 1976, 43 U.S.C. 1714, it is ordered as follows:

Public Land Order No. 6857 (56 FR 20551 (1991)), which withdrew 540 acres of National Forest System land from location and entry under the United States mining laws (30 U.S.C. Ch 2), but not from leasing under the mineral leasing laws, to protect the Squaw Lakes Recreation Area, is hereby extended for an additional 20-year period until May 5, 2031.

Authority: 43 CFR 2310.4.

Dated: May 2, 2011.
Wilma A. Lewis,
Assistant Secretary, Land and Minerals Management.

[FR Doc. 2011-11873 Filed 5-13-11; 8:45 am]

BILLING CODE 3410-11-P